SOCIAL SECURITY ADMINISTRATION

[Document No. SSA-2007-0015]

The Ticket to Work and Work Incentives Advisory Panel Meeting

AGENCY: Social Security Administration (SSA).

ACTION: Notice of teleconference.

DATES: March 13, 2007—2 p.m. to 4 p.m. Eastern Daylight Savings Time

Ticket to Work and Work Incentives Advisory Panel Conference Call

Call-in number: 1-888-790-4158.

Pass code: PANEL TELECONFERENCE.

Leader/Host: Berthy De la Rosa-Aponte.

SUPPLEMENTARY INFORMATION: Type of meeting: On March 13, 2007, the Ticket to Work and Work Incentives Advisory Panel (the “Panel”) will hold a teleconference. This teleconference meeting is open to the public.

Purpose: In accordance with section 10(a)(2) of the Federal Advisory Committee Act, the Social Security Administration (SSA) announces this teleconference meeting of the Ticket to Work and Work Incentives Advisory Panel. Section 101(f) of Public Law 106-170 establishes the Panel to advise the President, the Congress, and the Commissioner of SSA on issues related to work incentive programs, planning, and assistance for individuals with disabilities as provided under section 101(f)(2)(A) of the Act. The Panel is also to advise the Commissioner on matters specified in section 101(f)(2)(B) of that Act, including certain issues related to the Ticket to Work and Self-Sufficiency Program established under section 101(a).

The interested public is invited to listen to the teleconference by calling the phone number listed above. Public testimony will be taken from 3:30 p.m. until 4 p.m. Eastern Standard Time. You must be registered to give public comment. Contact information is given at the end of this notice.

Agenda: The full agenda for the meeting will be posted on the Internet at http://www.ssa.gov/work/panel at least one week before the starting date or can be received, in advance, electronically or by fax upon request.

Contact Information: Records are kept of all proceedings and will be available for public inspection by appointment at the Panel office. Anyone requiring information regarding the Panel should contact the staff by:

• Mail addressed to the Social Security Administration, Ticket to Work and Work Incentives Advisory Panel Staff, 400 Virginia Avenue, SW., Suite 700, Washington, DC 20024. Telephone contact with Debra Tidwell-Peters at (202) 358-6126.

• Fax at (202) 358-6440

• E-mail to TWWIIAPanel@ssa.gov.

• To register for the public comment portion of the meeting please contact Debra Tidwell-Peters by calling (202) 358-6126 or by e-mail to debra.tidwell-peters@ssa.gov.

Dated: February 26, 2007.
Chris Silanskis,
Designated Federal Officer.

[FR Doc. E7-3676 Filed 3-1-07; 8:45 am]

BILLING CODE 4191-02-P